NUCLEAR REGULATORY COMMISSION

[Docket No. 50-289; NRC-2008-0645]

Exelon Generation Company, LLC; Exelon Generation Company, LLC, Three Mile Island Nuclear Station, Unit 1; Notice of Availability of the Draft Supplement 37 to the Generic Environmental Impact Statement for License Renewal of Nuclear Plants, and Public Meeting for the License Renewal of Three Mile Island Nuclear Station, Unit 1

AGENCY: Nuclear Regulatory Commission.

ACTION: Notice of Availability; Correction.

SUMMARY: This document corrects a notice appearing in the Federal Register on December 9, 2008 (73 FR 74766), that announces a public meeting for the license renewal of Three Mile Island Nuclear Station, Unit 1. This action is necessary to update the date and location of the meeting.

FOR FURTHER INFORMATION CONTACT: Ms. Sarah Lopas, Environmental Project Manager, Office of Nuclear Reactor Regulation, telephone (301) 415-1147, e-mail: sarah.lopas@nrc.gov.

SUPPLEMENTARY INFORMATION: On page 74766, in the third column, fifteenth line, the meeting date is corrected to read from “January 28, 2009” to “February 24, 2009.” As previously stated in corrected Federal Register notice 74 FR 470, the location of the meeting is “The Sheraton Harrisburg Hershey Hotel, 4650 Lindle Road, Harrisburg, PA 17111.”

Dated at Rockville, Maryland, this 9th day of February, 2009.
For the Nuclear Regulatory Commission.
David L. Pelton,
Chief, Reactor Projects Branch 1, Division of License Renewal, Office of Nuclear Reactor Regulation.

[FR Doc. E9-3285 Filed 2-13-09; 8:45 am]

BILLING CODE 7590-01-P